DEPARTMENT OF ENERGY

Federal Energy Regulatory Commission

[Docket No. CP03-25-000]

Transcontinental Gas Pipe Line Corporation; Notice of Application

December 23, 2002.

Take notice that on December 13, 2002, Transcontinental Gas Pipe Line Corporation (Transco), P.O. Box 1396, Houston, Texas 77251, filed an application in Docket No. CP03-25-000 pursuant to section 7(c) of the Natural Gas Act (NGA) and part 157(A) of the Federal Energy Regulatory Commission's Regulations (Commission), for a certificate of public convenience and necessity authorizing Transco's construction and operation of certain facilities at Compressor Station No. 60 (Station 60) in East Feliciana Parish, Louisiana to comply with the Clean Air Act Amendments of 1990, all as more fully set forth in the application which is on file with the Commission and open to public inspection. Copies of this filing are on file with the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659.

Transco states that the Clean Air Act Amendments of 1990 and state implementation plans require certain reductions of NOX (oxides of nitrogen) air emissions at certain of Transco's compressor stations. Accordingly, during the past few years and over the next few years Transco has installed and plans to install certain facilities at these stations to achieve the required reductions of NOX. Transco states that it plans to install these facilities pursuant to its blanket facilities certificate (18 CFR 157.208) issued in Docket No. CP82-426 when it is authorized to do so (either under automatic or prior notice authorization, depending on the estimated dollar amount). However, at the stations where the estimated total cost of installing these facilities is more than $21 million, Transco states that it is not authorized to perform such work pursuant to its blanket facilities certificate and, therefore, is required to file an application for a certificate of public convenience and necessity.

Transco states that it proposes to modify several of its existing reciprocating engines at Station 60 in order to comply with the State of Louisiana plan to implement the Clean Air Act Amendments of 1990. Station 60 has 13 units including 10 reciprocating/compressor units and three gas turbine-driven centrifugal compressor units. The facilities at Station 60 are located within a fenced area of approximately 11 acres. Transco states that it plans to install turbochargers and associated equipment on 9 of the 10 reciprocating engines in order to reduce NOX emissions.

Transco states that, following installation of the turbochargers, the 9 engines will have the potential to perform above their current operating horsepower. However, since Station 60 is automated, it is stated that Transco has the ability to shut down other engines or reduce their load to ensure that the station will not operate above the station's total certificated horsepower. Transco states that there will be no increase in the capacity of Transco's system in the vicinity of the station as a result of installing the 9 new turbochargers and modifying the two existing turbochargers.

Transco states that installation of new turbochargers and modifications to existing ones at Station 60 will require some work to be done outside of the compressor building. All of the proposed work described above will be done within the confines of previously disturbed areas. Approximately one acre of previously disturbed ground will be affected by the proposed project. Restoration of this area will be conducted according to the Commission's Upland Erosion Control, Revegetation, and Maintenance Plan.

Transco estimates that the proposed modifications will cost $32.2 million.

Transco submits that the public convenience and necessity requires the issuance of the authorization requested herein because this project will (1) reduce NOX emissions at Station 60, and (2) enable Transco to comply with the Clean Air Act Amendments of 1990 and the requirements of the DEQ implementing regulations issued pursuant thereto.

Transco states that it needs to commence the work at Station 60 in April 2003 in order to complete the work on a timely basis with respect to the requirements of the Clean Air Act Amendments of 1990 and the requirements of the DEQ, while at the same time accommodating the operational needs of its pipeline system and ensuring that Transco's gas service obligations are met. Engine modifications were initially scheduled to commence in 2004. However, a recent project evaluation indicated Transco must phase engine outages over an extended period in order to minimize the impact to gas throughput. With this revised engine outage schedule, Transco must begin construction in April 2003 and recommence work in April 2004 in order to complete the required engine modifications prior to the May 1, 2005, regulatory deadline.

Any questions regarding this application should be directed to Kevin Farris, P. O. Box 1396, Houston, Texas 77251-1396, (713) 215-2862.

Any person desiring to intervene or to protest this filing should file with the Federal Energy Regulatory Commission, 888 First Street, NE., Washington, DC 20426, in accordance with rules 211 and 214 of the Commission's rules of practice and (18 CFR 385.211 and 385.214). Protests will be considered by the Commission in determining the appropriate action to be taken, but will not serve to make protestants parties to the proceeding. Any person wishing to become a party must file a motion to intervene. All such motions or protests should be filed on or before January 13, 2003, the comment date, and, to the extent applicable, must be served on the applicant and on any other person designated on the official service list. Protests and interventions may be filed electronically via the Internet in lieu of paper; see 18 CFR 385.2001(a)(1)(iii) and the instructions on the Commission's Web site under the “e-Filing” link. The Commission strongly encourages electronic filings.

A person obtaining intervenor status will be placed on the service list maintained by FERC and will receive copies of all documents filed by Applicant and by every one of the intervenors. An intervenor can file for rehearing of any FERC order and can petition for court review of any such order. However if an intervenor choses not to file electronically, an intervenor must submit copies of comments or any other filing it makes with FERC to every other intervenor in the proceeding, as well as 14 copies with FERC.

However, a person does not have to intervene in order to have comments considered. A person, instead, may submit two copies of comments to the Secretary of FERC. Commenters will be placed on FERC's environmental mailing list, receive copies of environmental documents, and be able to participate in meetings (if any) associated with FERC's environmental review process. Commenters will not be required to serve copies of filed documents on all other parties. However, commenters will not receive copies of all documents filed by other parties or issued by FERC and will not have the right to seek rehearing or appeal FERC's final order to a Federal court.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receiver copies of all documents filed by other parties or issued by the Commission (except for the mailing of environmental documents issued by the Commission) and will not have the right to seek court review of the Commission's final order.

Take further notice that, pursuant to the authority contained in and subject to the jurisdiction conferred upon FERC by sections 7 and 15 of the Natural Gas Act and FERC's rules of practice and procedure, a hearing will be held without further notice before FERC or its designee on this application if no motion to intervene is filed within the time required herein, if FERC on its own review of the matter finds that a grant of the certificate is required by the public convenience and necessity. If a motion for leave to intervene is timely filed, or if FERC on its own motion believes that a formal hearing is required, further notice of such hearing will be duly given.

If the Commission decides to set the application for a formal hearing before an Administrative Law Judge, the Commission will issue another notice describing that process. At the end of the Commission's review process, a final Commission order approving or denying a certificate will be issued.

Under the procedure herein provided for, unless otherwise advised, it will be unnecessary for the Transco to appear or be represented at the hearing.

Linwood A. Watson, Jr.,
Deputy Secretary.

[FR Doc. 02-32872 Filed 12-27-02; 8:45 am]

BILLING CODE 6717-01-P